FEDERAL COMMUNICATIONS COMMISSION

47 CFR Part 73

[DA 06-2276; MB Docket No. 04-12; RM-10834]

Radio Broadcasting Services; Littleville and Russellville, AL

AGENCY: Federal Communications Commission.

ACTION: Final rule; dismissal of petition for reconsideration.

SUMMARY: The staff approves the withdrawal of a petition for reconsideration in this FM allotment rulemaking proceeding and finds no reason for further consideration of the matters raised therein. See SUPPLEMENTARY INFORMATION.

FOR FURTHER INFORMATION CONTACT: Andrew J. Rhodes, Media Bureau, (202) 418-2180.

SUPPLEMENTARY INFORMATION: This is a synopsis of the Commission's Memorandum Opinion and Order, MB Docket No. 04-12, adopted November 1, 2006, and released November 3, 2006. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

The Report and Order in this proceeding reallotted and changed the community of license for Station WLAY-FM from Channel 278A at Russellville to Channel 278A at Littleville, Alabama. The withdrawal of the petition for reconsideration and related pleadings complies with Section 1.420(j) of the Commission's rules because the parties have documented that the consideration that J. Michael Self will receive does not exceed his legitimate and prudent out of pocket expenses. See 69 FR 25845 (May 10, 2004).

This document is not subject to the Congressional Review Act. (The Commission, is, therefore, not required to submit a copy of this Memorandum Opinion and Order to GAO, pursuant to the Congressional Review Act, see 5 U.S.C. 801(a)(1)(A) because the petition for reconsideration was dismissed).

Federal Communications Commission.
John A. Karousos,
Assistant Chief, Audio Division, Media Bureau.

[FR Doc. E6-19658 Filed 11-21-06; 8:45 am]

BILLING CODE 6712-01-P